DEPARTMENT OF ENERGY

Federal Energy Regulatory Commission

Combined Notice of Filings #1

Take notice that the Commission received the following electric corporate filings:

Docket Numbers: EC15-102-000.

Applicants: Florida Power & Light Company.

Description: Application of Florida Power & Light Company for Authorization Under Section 203 of the Federal Power Act and Request for Expedited Action.

Filed Date: 3/23/15.

Accession Number: 20150323-5346.

Comments Due: 5 p.m. ET 4/13/15.

Take notice that the Commission received the following exempt wholesale generator filings:

Docket Numbers: EG15-70-000.

Applicants: CPV Biomass Holdings, LLC.

Description: Notice of Self-Certification of Exempt Wholesale Generator Status of CPV Biomass Holdings, LLC.

Filed Date: 3/24/15.

Accession Number: 20150324-5086.

Comments Due: 5 p.m. ET 4/14/15.

Take notice that the Commission received the following electric rate filings:

Docket Numbers: ER10-3184-004; ER10-2805-004; ER10-2600-005; ER10-2564-005; ER10-2289-005; EL15-42-000.

Applicants: FortisUS Energy Corporation, Central Hudson Gas & Electric Corp., Tucson Electric Power Company, UNS Electric, Inc., UniSource Energy Development Company.

Description: Response to Order to Show Cause of the Fortis MBR Sellers.

Filed Date: 3/23/15.

Accession Number: 20150323-5342.

Comments Due: 5 p.m. ET 4/13/15.

Docket Numbers: ER11-4315-005; ER10-3110-004; ER10-3144-005.

Applicants: Gila River Power LLC, Union Power Partners, L.P., Entegra Power Services LLC.

Description: Notice of Non-Material Change in Status of the Entegra Public Utilities.

Filed Date: 3/24/15.

Accession Number: 20150324-5159.

Comments Due: 5 p.m. ET 4/14/15.

Docket Numbers: ER13-1922-001.

Applicants: Duke Energy Florida, Inc., Duke Energy Carolinas, LLC.

Description: Compliance filing per 35: Order No. 1000 Interregional FRCC & SERTP to be effective 1/1/2015.

Filed Date: 3/24/15.

Accession Number: 20150324-5070.

Comments Due: 5 p.m. ET 4/14/15.

Docket Numbers: ER13-1928-002.

Applicants: Duke Energy Progress, Inc., Duke Energy Carolinas, LLC.

Description: Compliance filing per 35: Order No. 1000 Interregional—SERTP & SCRTP & FRCC to be effective 1/1/2015.

Filed Date: 3/24/15.

Accession Number: 20150324-5069.

Comments Due: 5 p.m. ET 4/14/15.

Docket Numbers: ER13-1930-002.

Applicants: Louisville Gas and Electric Company.

Description: Compliance filing per 35: Order 1000 Interregional FRCC and SCRTP to be effective 1/1/2015.

Filed Date: 3/24/15.

Accession Number: 20150324-5092.

Comments Due: 5 p.m. ET 4/14/15.

Docket Numbers: ER13-1932-001.

Applicants: Tampa Electric Company.

Description: Compliance filing per 35: OATT Order No. 1000 Interregional Compliance Filing 2015 to be effective 1/1/2015.

Filed Date: 3/24/15.

Accession Number: 20150324-5034.

Comments Due: 5 p.m. ET 4/14/15.

Docket Numbers: ER13-1935-001.

Applicants: South Carolina Electric & Gas Company.

Description: Compliance filing per 35: Order 1000 Interregional Compliance filing 3-24-15 to be effective 1/1/2015.

Filed Date: 3/24/15.

Accession Number: 20150324-5057.

Comments Due: 5 p.m. ET 4/14/15.

Docket Numbers: ER13-1941-002.

Applicants: Alabama Power Company.

Description: Compliance filing per 35: Order No. 1000 Second Interregional Compliance Filing—FRCC & SCRPT Seams to be effective 1/1/2015.

Filed Date: 3/24/15.

Accession Number: 20150324-5074.

Comments Due: 5 p.m. ET 4/14/15.

Docket Numbers: ER13-2255-001.

Applicants: Mansfield Power and Gas, LLC.

Description: Notice of Non-Material Change in Status of Mansfield Power and Gas, LLC.

Filed Date: 3/18/15.

Accession Number: 20150318-5204.

Comments Due: 5 p.m. ET 4/8/15.

Docket Numbers: ER13-2318-005; ER13-2317-005; ER13-2319-005.

Applicants: All Dams Generation, LLC, Lake Lynn Generation, LLC, PE Hydro Generation, LLC.

Description: Notification of Change in Status of the Cube Hydro MBR Sellers.

Filed Date: 3/23/15.

Accession Number: 20150323-5343.

Comments Due: 5 p.m. ET 4/13/15.

Docket Numbers: ER14-2864-003.

Applicants: PJM Interconnection, L.L.C.

Description: Tariff Amendment per 35.17(b): Compliance Filing per 2/20/15 Order in Docket No. ER14-2864 to be effective 11/12/2015.

Filed Date: 3/23/15.

Accession Number: 20150323-5321.

Comments Due: 5 p.m. ET 4/13/15.

Docket Numbers: ER15-551-000.

Applicants: Southwest Power Pool, Inc.

Description: eTariff filing per 35.19a(b): 2390R2 Westar Energy, Inc. Refund Report to be effective N/A.

Filed Date: 3/24/15.

Accession Number: 20150324-5077.

Comments Due: 5 p.m. ET 4/14/15.

Docket Numbers: ER15-571-000.

Applicants: Southwest Power Pool, Inc.

Description: eTariff filing per 35.19a(b): 2066R3 Westar Energy, Inc. Refund Report to be effective N/A.

Filed Date: 3/24/15.

Accession Number: 20150324-5067.

Comments Due: 5 p.m. ET 4/14/15.

Docket Numbers: ER15-599-000.

Applicants: Southwest Power Pool, Inc.

Description: eTariff filing per 35.19a(b): 2562R2 Kansas Municipal Energy Authority Refund Report to be effective N/A.

Filed Date: 3/24/15.

Accession Number: 20150324-5071.

Comments Due: 5 p.m. ET 4/14/15.

Docket Numbers: ER15-1045-000.

Applicants: Pilot Hill Wind, LLC.

Description: Supplement to February 13, 2015 Pilot Hill Wind, LLC tariff filing.

Filed Date: 3/23/15.

Accession Number: 20150323-5268.

Comments Due: 5 p.m. ET 4/6/15.

Docket Numbers: ER15-1196-001.

Applicants: Nevada Power Company.

Description: Tariff Amendment per 35.17(b): OATT Energy Imbalance Market Revision (C & P) to be effective 5/15/2015.

Filed Date: 3/24/15.

Accession Number: 20150324-5130.

Comments Due: 5 p.m. ET 4/6/15.

Docket Numbers: ER15-1359-000.

Applicants: Public Service Company of Colorado.

Description: § 205(d) rate filing per 35.13(a)(2)(iii): 2015-3-23_TSGT-TSA-377-0.0.0—Filing to be effective 10/1/2014.

Filed Date: 3/23/15.

Accession Number: 20150323-5291.

Comments Due: 5 p.m. ET 4/13/15.

Docket Numbers: ER15-1360-000.

Applicants: PJM Interconnection, L.L.C.

Description: § 205(d) rate filing per 35.13(a)(2)(iii): Original Service Agreement No. 4109; Queue No. Z1-073 to be effective 2/19/2015.

Filed Date: 3/23/15.

Accession Number: 20150323-5305.

Comments Due: 5 p.m. ET 4/13/15.

Docket Numbers: ER15-1361-000.

Applicants: PJM Interconnection, L.L.C.

Description: § 205(d) rate filing per 35.13(a)(2)(iii): First Revised Service Agreement No. 3831; Queue No. Z1-072 to be effective 2/19/2015.

Filed Date: 3/23/15.

Accession Number: 20150323-5320.

Comments Due: 5 p.m. ET 4/13/15.

Docket Numbers: ER15-1362-000.

Applicants: Galt Power, Inc.

Description: § 205(d) rate filing per 35.13(a)(2)(iii): MBR Tariff Update to be effective 3/1/2015.

Filed Date: 3/24/15.

Accession Number: 20150324-5045.

Comments Due: 5 p.m. ET 4/14/15.

Docket Numbers: ER15-1363-000.

Applicants: Midcontinent Independent System Operator, Inc.

Description: § 205(d) rate filing per 35.13(a)(2)(iii): 2015-03-24_SA 2698 Termination of OTP-Courtenay Wind Farm GIA (J262/J263) to be effective 5/24/2015.

Filed Date: 3/24/15.

Accession Number: 20150324-5046.

Comments Due: 5 p.m. ET 4/14/15.

Docket Numbers: ER15-1364-000.

Applicants: Midcontinent Independent System Operator, Inc.

Description: § 205(d) rate filing per 35.13(a)(2)(iii): 2015-03-24_SA 768. Bill of Sale for ATC-UPPCo Agreement to be effective 5/24/2015.

Filed Date: 3/24/15.

Accession Number: 20150324-5079.

Comments Due: 5 p.m. ET 4/14/15.

Docket Numbers: ER15-1365-000.

Applicants: Morris Cogeneration, LLC.

Description: § 205(d) rate filing per 35.13(a)(2)(iii): Reactive Power Rate Schedule to be effective 5/1/2015.

Filed Date: 3/24/15.

Accession Number: 20150324-5124.

Comments Due: 5 p.m. ET 4/14/15.

Docket Numbers: ER15-1366-000.

Applicants: Midcontinent Independent System Operator, Inc.

Description: § 205(d) rate filing per 35.13(a)(2)(iii): 2015-03-24_SA 2761. ATC-UPPCo Common Facilities Agreement to be effective 5/24/2015.

Filed Date: 3/24/15.

Accession Number: 20150324-5133.

Comments Due: 5 p.m. ET 4/14/15.

Docket Numbers: ER15-1367-000.

Applicants: Midcontinent Independent System Operator, Inc.

Description: § 205(d) rate filing per 35.13(a)(2)(iii): 2015-03-24_SA 768. Notice of Termination of Bill of Sale (ATC-UPPCo) to be effective 5/24/2015.

Filed Date: 3/24/15.

Accession Number: 20150324-5137.

Comments Due: 5 p.m. ET 4/14/15.

Take notice that the Commission received the following qualifying facility filings:

Docket Numbers: QF15-549-000.

Applicants: Clark University.

Description: Form 556 of Clark University under QF15-549.

Filed Date: 3/12/15.

Accession Number: 20150312-5166.

Comments Due: None Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 24, 2015.
Nathaniel J. Davis, Sr.,
Deputy Secretary.

[FR Doc. 2015-07194 Filed 3-27-15; 8:45 am]

BILLING CODE 6717-01-P